DEPARTMENT OF EDUCATION

Membership of the Performance Review Board

AGENCY: Office of Management, Department of Education.

ACTION: Notice.

SUMMARY: The Secretary publishes a list of persons who may be named to serve on the Performance Review Board that oversees the evaluation of performance appraisals for Senior Executive Service members of the Department.

DATES: This list applies as of September 15, 2017.

SUPPLEMENTARY INFORMATION:

Membership

Title 5, U.S.C. Section 4314(c)(4) of the Civil Service Reform Act of 1978, Public Law 95-454, requires that the appointment of Performance Review Board members be published in the Federal Register. The following persons may be named to serve on the Performance Review Board:

ANDERSON, MARGO K.

ASHLEY, CAROL R.

BAKER, JEFFREY S.

BATTLE, SANDRA G.

BERGSTROM, PETER D.

BETKA, SUE E.

BYRD-JOHNSON, LINDA E.

CANELLOS, ERNEST C.

CUFFEE-GRAVES, CASSANDRA L.

CARR, PEGGY G.

CARTER, DENISE L.

CHANG, LISA E.

CHAPMAN, CHRISTOPHER D.

CHAVEZ, ANTHONY S.

CHISM, MONIQUE M.

CONATY, JOSEPH C.

CORDES, WILLIAM D.

GALIK, DANIEL

GOODRIDGE-KEILLER, MARCELLA F.

GRAY, JASON K.

GREEN, A. BIANCA

HAIRFIELD, JAMES M.

HALL, LINDA W.

HOLIFIELD, JONATHAN

HURT, JOHN W. III

JACKSON, CANDICE E.

KARVONIDES, MARIA

KEAN, LARRY G.

KISSEL, ADAM H.

KOEPPEL, DENNIS P.

LEE, EBONY L.

LUCAS, RICHARD J.

LUCZAK, RONALD J.

MAESTRI, PHILIP A.

MAHAFFIE, LYNN B.

MALAWER, HILARY E.

MANNING, JAMES F.

MCDONALD, WALTER C.

MCFADDEN, ELIZABETH A.

MCLAUGHLIN, MAUREEN A.

MENASHI, STEVEN J.

MILLER, DANIEL J.

NAVARRO, ERICA M.

PENDLETON, AUDREY J.

PEPIN, ANDREW, J.

RAMIREZ, LISA

RICHEY, KIMBERLY

RIDDLE, PAUL N.

ROBISON, GREGORY

ROSENFELT, PHILIP H.

RYDER, RUTH E.

SANTY, ROSS JR.

SASSER, TRACEY L.

SCOTT, JANET D.

SIMMONS, LEE-DOUGLASS R.

SIMPSON, DANIEL J.

SMITH, KATHLEEN A.

SOLTIS, TIMOTHY F.

ST. PIERRE, TRACEY L.

STRACKE, LINDA A.

STYLES, KATHLEEN M.

THOMAS, MILTON L. JR.

VENABLE, JOSHUA J.

VIANA, JOSE A.

WASHINGTON, MARK R.

WILBANKS, LINDA R.

WILLS, RANDOLPH E.

WOOD, GARY H.

FOR FURTHER INFORMATION CONTACT: Valarie Barclay, Director, Executive Resources Division, Office of Human Resources, Office of Management, U.S. Department of Education, 400 Maryland Avenue SW., Room 2C150, LBJ, Washington, DC 20202-4573. Telephone: (202) 453-5918.

If you use a telecommunications device for the deaf (TDD) or text telephone (TTY), you may call the Federal Relay Service (FRS), toll free, at 1-800-877-8339.

Accessible Format: Individuals with disabilities may obtain this document in an alternative format (e.g., braille, large print, audiotape, or compact disc) on request to the contact person listed under FOR FURTHER INFORMATION CONTACT.

Electronic Access to This Document: The official version of this document is the document published in the Federal Register. Free internet access to the official edition of the Federal Register and the Code of Federal Regulations is available via the Federal Digital System at www.gpo.gov/fdsys. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Betsy DeVos,
Secretary of Education.

[FR Doc. 2017-19673 Filed 9-14-17; 8:45 am]

BILLING CODE 4000-01-P